DEPARTMENT OF STATE

[Public Notice: 7048]

Notice of Meeting of the Cultural Property Advisory Committee

In accordance with the provisions of the Convention on Cultural Property Implementation Act (19 U.S.C. 2601 et seq.) (the Act) there will be a meeting of the Cultural Property Advisory Committee on Wednesday, July 14, 2010, from 9 a.m. to approximately 5 p.m., and on Thursday, July 15, 2010, from 9 a.m. to approximately 3 p.m., at the Department of State, Annex 5, 2200 C Street, NW., Washington, DC. During its meeting the Committee will review a proposal to extend the “Agreement Between the Government of the United States of America and the Government of the Republic of Nicaragua Concerning the Imposition of Import Restrictions on Archaeological Material from the Pre-Hispanic Cultures of the Republic of Nicaragua,” and possible additional restrictions on certain ethnological material. The Agreement was entered into on October 26, 2000, and amended and extended in 2005 through an exchange of diplomatic notes. The purpose of this review is for the Committee to make findings and a recommendation regarding the proposal to extend (and possibly amend) this Agreement.

The Committee's responsibilities are carried out in accordance with provisions of the Act. The U.S.—Nicaragua Agreement, as amended and extended, the Designated List of restricted categories, the text of the Act and related information may be found at http://exchanges.state.gov/heritage/culprop.

Exercising delegated authority from the President and the Secretary of State, I have determined that portions of the meeting on July 14, and all of the meeting on July 15 will be closed pursuant to 5 U.S.C. 552b(c)(9)(B) and 19 U.S.C. 2605(h), because the disclosure of matters involved in the Committee's proceedings would compromise the Government's negotiating objectives or bargaining positions on the negotiations of this Agreement. However, on July 14, the Committee will hold an open session, 9:30 a.m. to approximately 11 a.m., to receive oral public comment on the proposal to extend the Agreement. Persons wishing to attend this open session should notify the Cultural Heritage Center of the Department of State at (202) 632-6301 by Wednesday, June 30, 2010, 5 p.m. (EDT) to arrange for admission, as seating is limited.

Those who wish to make oral presentations should request to be scheduled and submit a written text of the oral comments by Wednesday, June 30, 2010, to allow time for distribution of these comments to Committee members for their review prior to the meeting. Oral comments will be limited to five minutes each or less to allow time for questions from members of the Committee and must specifically address the determinations under section 303(a)(1) of the Act, 19 U.S.C. 2602(a)(1), pursuant to which the Committee must make findings. This citation for the determinations can be found at the Web site noted above. The Committee also invites written comments and asks that they be submitted no later than June 30, 2010. All written materials, including the written texts of oral statements, should be faxed to (202) 632-6300, if five pages or less. Written comments greater than five pages in length must be duplicated (20 copies) and mailed to Cultural Heritage Center, SA-5, Fifth Floor, Department of State, Washington, DC 20522-0505. Express mail is recommended for timely delivery.

On July 15, 2010, the Committee will conduct an interim review of the Memorandum of Understanding Between the Government of the United States of America and the Government of the Republic of Bolivia concerning the Imposition of Import Restrictions on Archaeological Material from the Pre-Columbian Cultures and Certain Ethnological Materials from the Colonial and Republican Periods of Bolivia.

Judith A. McHale,
Under Secretary, Public Diplomacy and Public Affairs, Department of State.

[FR Doc. 2010-14531 Filed 6-15-10; 8:45 am]

BILLING CODE 4710-05-P